DEPARTMENT OF EDUCATION

[CFDA No. 84.359]

Early Reading First Program

AGENCY: Department of Education.

ACTION: Notice revising deadline requirement for State lists of eligible local educational agencies (LEAs) for the initial year's (fiscal year (FY) 2002) Early Reading First grant competition.

SUMMARY: The Secretary revises the requirement that State educational agencies (SEAs) submit lists of eligible LEAs so that the Department receives those lists by a certain deadline (April 30, 2002), to allow lists to be either received by the Department by that deadline or postmarked by that deadline. The Secretary takes this action to allow the Department to accept lists of eligible LEAs where receipt was delayed due to disruptions in normal mail delivery.

Eligibility: The change of deadline procedures affects you only if you are an SEA that submitted a list of eligible LEAs for the Early Reading First competition for FY 2002 that was not received by the Department by April 30, 2002, but that was postmarked by that date.

DATES: State Data Submission Deadline: The Department (1) must have received the submission by April 30, 2002; or (2) the SEA must have had its submission postmarked by April 30, 2002, and the Department must have received that submission by June 21, 2002.

FOR FURTHER INFORMATION CONTACT: Patricia McKee, Tracy Bethel, or Jennifer Flood at 202-260-4555, or by e-mail at ERF@ed.gov.

If you use a telecommunications device for the deaf (TDD), you may call the Federal Information Relay Service (FIRS) at 1-800-877-8339. If you are an individual with a disability, you may obtain a copy of this notice in an alternative format (e.g., Braille, large print, audiotape, or computer diskette) on request to the contact person listed in this section.

SUPPLEMENTARY INFORMATION:

The Early Reading First Program is a direct competitive grant program that will support early education programs and teach preschool-age children to develop the early language and cognitive skills that they need to enter kindergarten ready to learn to read and succeed under State standards. Eligible entities are eligible LEAs, and public and private organizations in communities served by those LEAs.

The statute bases LEAs eligibility for the Early Reading First Program on the statutory criteria for LEA eligibility for Reading First State Grants Program subgrants. On April 10, 2002, the Secretary published a notice in the Federal Register (67 FR 17594) for the Early Reading First Program inviting SEAs, by April 30, 2002, to identify and provide to the Department, for the purposes of the Early Reading First grant competition for FY 2002, a list of eligible LEAs in the State under the Reading First statutory criteria. That notice indicated that if the Department did not receive a State's submission of a list of eligible LEAs by April 30, 2002, the Department would itself identify eligible LEAs in the State for the Early Reading First grants for FY 2001. However, the Department recently has experienced disruptions to normal mail delivery. For this reason, the Department did not receive some submissions that States mailed in sufficient time for the Department normally to have received them by April 30, 2002. The Secretary therefore changes the submission procedures to allow for those submissions of State lists of eligible LEAs that either (1) were received by the Department by the deadline; or (2) that were postmarked by that deadline so long as the Department receives the postmarked submission by June 21, 2002.

Waiver of Proposed Rulemaking

It is the Secretary's practice, in accordance with the Administrative Procedure Act (5 U.S.C. 553), to offer interested parties the opportunity to comment on proposed requirements that are not taken directly from statute. Ordinarily, this practice would have applied to the requirements in this notice. Section 437(d)(1) of the General Education Provisions Act (GEPA), however, exempts from this requirement rules that apply to the first competition under a new or substantially revised program authority. To ensure timely awards of Early Reading First grants, the Secretary, in accordance with section 437(d)(1) of GEPA, has decided to forego public comment with respect to this change in the State data submission deadline requirements.

Paperwork Reduction Act Considerations

As required by the Paperwork Reduction Act, the Office of Management and Budget has approved this information collection under OMB control number 1810-0647, which expires August 31, 2002.

Electronic Access to This Document

You may view this document, as well as all of other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo/nara/index.html

Program Authority: Subpart 2, part B, title I of the ESEA, Pub. L. 107-110.

Dated: May 24, 2002.
Susan B. Neuman,
Assistant Secretary for Elementary and Secondary Education.

[FR Doc. 02-13573 Filed 5-29-02; 8:45 am]

BILLING CODE 4000-01-M